DEPARTMENT OF HEALTH AND HUMAN SERVICES

Office of the Secretary

Delegations of Authority

Notice is hereby given that I have delegated to the National Coordinator for Health Information Technology (National Coordinator) the authority vested in the Secretary under Title XXX of the Public Health Service Act (42 U.S.C. 201 et seq.), as amended, to administer Subtitle B, “Incentives for the Use of Health Information Technology,” sections 3011 through 3017, with the exception of 3012(c)(5), the Financial Support subsection.

These authorities may be redelegated. The delegations authorize the National Coordinator to administer the Incentives for the Use of Health Information Technology as provided in Subtitle B.

I hereby affirm and ratify any actions taken by the National Coordinator or by any other officials of the Office of the National Coordinator for Health Information Technology, which, in effect, involved the exercise of this authority prior to the effective date of this delegation.

This delegation is effective upon date of signature.

Dated: August 7, 2009.
Kathleen Sebelius,
Secretary.

[FR Doc. E9-19709 Filed 8-17-09; 8:45 am]

BILLING CODE 4150-24-P